SECURITIES AND EXCHANGE COMMISSION

In the Matter of Today's Man, Inc., Tokheim Corp., Total Film Group, Inc., Toth Aluminum Corp., Tower Air, Inc., TPC Liquidation, Inc., the Translation Group, Ltd., Track `n Trail, Inc., TransAxis, Inc., Transmedia Europe, Inc., Treasury International, Inc., Trend-Lines, Inc., and Tri Lite, Inc., Respondents; Order of Suspension of Trading

May 20, 2009.

It appears to the Securities and Exchange Commission that there is a lack of current and accurate information concerning the securities of Today's Man, Inc. because it has not filed any periodic reports since the period ended November 2, 2002.

It appears to the Securities and Exchange Commission that there is a lack of current and accurate information concerning the securities of Tokheim Corp. because it has not filed any periodic reports since the period ended August 31, 2002.

It appears to the Securities and Exchange Commission that there is a lack of current and accurate information concerning the securities of Total Film Group, Inc. because it has not filed any periodic reports since the period ended March 31, 2001.

It appears to the Securities and Exchange Commission that there is a lack of current and accurate information concerning the securities of Toth Aluminum Corp. because it has not filed any periodic reports since the period ended February 29, 2004.

It appears to the Securities and Exchange Commission that there is a lack of current and accurate information concerning the securities of Tower Air, Inc. because it has not filed any periodic reports since the period ended September 30, 1999.

It appears to the Securities and Exchange Commission that there is a lack of current and accurate information concerning the securities of TPC Liquidation, Inc. because it has not filed any periodic reports since the period ended September 30, 2003.

It appears to the Securities and Exchange Commission that there is a lack of current and accurate information concerning the securities of The Translation Group, Ltd. because it has not filed any periodic reports since the period ended December 31, 2003.

It appears to the Securities and Exchange Commission that there is a lack of current and accurate information concerning the securities of Track `n Trail, Inc. because it has not filed any periodic reports since the period ended December 30, 2000.

It appears to the Securities and Exchange Commission that there is a lack of current and accurate information concerning the securities of TransAxis, Inc. because it has not filed any periodic reports since the period ended March 31, 2003.

It appears to the Securities and Exchange Commission that there is a lack of current and accurate information concerning the securities of Transmedia Europe, Inc. because it has not filed any periodic reports since the period ended June 30, 2000.

It appears to the Securities and Exchange Commission that there is a lack of current and accurate information concerning the securities of Treasury International, Inc. because it has not filed any periodic reports since the period ended October 31, 2003.

It appears to the Securities and Exchange Commission that there is a lack of current and accurate information concerning the securities of Trend-Lines, Inc. because it has not filed any periodic reports since the period ended August 24, 2001.

It appears to the Securities and Exchange Commission that there is a lack of current and accurate information concerning the securities of Tri Lite, Inc. because it has not filed any periodic reports since the period ended June 30, 1999.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on May 20, 2009, through 11:59 p.m. EDT on June 3, 2009.

By the Commission.
Elizabeth M. Murphy,
Secretary.

[FR Doc. E9-12103 Filed 5-20-09 4:15 pm]

BILLING CODE 8010-01-P